DEPARTMENT OF COMMERCE

National Oceanic and Atmospheric Administration

[I.D. 060805C]

Atlantic Pelagic Longline Take Reduction Team Meeting

AGENCY: National Marine Fisheries Service (NMFS), National Oceanic and Atmospheric Administration (NOAA), Commerce.

ACTION: Notice of establishment of an Atlantic Longline Take Reduction Team and meeting.

SUMMARY: NMFS is establishing a Take Reduction Team (TRT) and convening a TRT meeting to address the incidental mortality and serious injury of long-finned pilot whales (Globicephala melas) and short-finned pilot whales (Globicephala macrorhynchus) in the Atlantic region of the Atlantic pelagic longline fishery. The TRT will develop a Take Reduction Plan (TRP) as required in the Marine Mammal Protection Act (MMPA). NMFS will seek input from the Atlantic Pelagic Longline TRT on all scientific data related to stock structure, abundance, and human-caused mortality and serious injury of pilot whales. The TRT will focus on developing a plan to reduce incidental catch of pilot whales in the Atlantic pelagic longline fishery to a level approaching a zero mortality and serious injury rate within 5 years of implementation of the plan.

DATES: The meeting will be held on June 29, 2005, from 1 p.m. to 5 p.m., and on June 30, 2005, from 8:30 p.m. to 5 p.m.

ADDRESSES: The PLTRT meeting will be held at the Hyatt Regency, 7400 Wisconsin Avenue, Bethesda, MD 20814. Phone: (301) 657-1234, Fax: (301) 657-6453.

FOR FURTHER INFORMATION CONTACT: Victoria Cornish: (727) 824-5312 or Kristy Long: (301) 713-2322.

SUPPLEMENTARY INFORMATION: The MMPA defines the Potential Biological Removal (PBR) level of a marine mammal stock as the maximum number of animals, not including natural mortalities, that may be removed from a marine mammal stock while allowing that stock to reach or maintain its optimum sustainable population. The PBR level is the product of the following factors: the minimum population estimate of the stock; one-half the maximum theoretical or estimated net productivity rate of the stock at a small population size; and a recovery factor of between 0.1 and 1.0.

The Western North Atlantic stocksof short-finned and long-finned pilot whales (Globicephala sp.) were designated as strategic in the 2003 marine mammal stock assessment report. However, NMFS has revised the abundance estimates for pilot whales based on recent surveys conducted throughout their range. The 2005 draft stock assessment report now indicates that the PBR for the combined stock of long-finned and short-finned pilot whales (Globicephala sp.) is 247, and that total fishery-related mortality and serious injury is 201. Therefore, the status of this combined stock in the 2005 draft stock assessment report will change from strategic to non-strategic because fishery-related serious injuries and mortalities are less than PBR.

For a non-strategic stock, a take reduction plan shall be completed within 11 months of the establishment of the team, and shall focus on reducing incidental mortalities and serious injuries of pilot whales to a level approaching a zero mortality and serious injury rate within 5 years of implementation of the plan.

Both species of pilot whales are known to interact with the pelagic longline fishery, which is classified on the MMPA List of Fisheries as a Category I fishery, or one that has frequent incidental mortalities or serious injuries of marine mammals. Most of the observed interactions of pilot whales with the pelagic longline fishery have occurred in the Mid-Atlantic Bight, where the ranges of the two species overlap. Other commercial fisheries known to occasionally cause incidental mortality and serious injury of short-finned and long-finned pilot whales include the southern New England and mid-Atlantic midwater and bottom trawl fisheries targeting squid, mackerel, butterfish, and herring. These fisheries are identified in the 2004 List of Fisheries (69 FR 48407, August 10, 2004).

As required under section 118 (f)(8) of the MMPA, the TRT shall develop a draft TRP by consensus, and shall submit this draft TRP to NMFS not later than 11 months after the date of the establishment of the TRT. The Secretary shall then consider the TRP, and no later than 60 days after the submission of the draft TRP, NMFS shall publish in the Federal Register the TRP and any implementing regulations proposed by the team for a public comment period not to exceed 90 days. Within 60 days of the close of the comment period, NMFS shall issue a final TRP and any implementing regulations.

List of invited participants: MMPA section 118 (f)(6)(C) requires that members of TRTs have expertise regarding the conservation or biology of the marine mammal species that the TRP will address, or the fishing practices that result in the incidental mortality or serious injury of such species. The MMPA further specifies that TRTs shall, to the maximum extent practicable, consist of an equitable balance among representatives of resource user and non-user interests.

NMFS has asked the following individuals to serve as members of the TRT, which will focus on reducing bycatch of long-finned and short-finned pilot whales in the Atlantic pelagic longline fishery:

Nelson Beidman, Blue Water Fishermen's Association; Jim Budi, Shoreside; Vicki Cornish, NMFS; Jean Cramer, Thunder Mountain Consulting; Brendan Cummings, Center for Biological Diversity; Damon Gannon, Mote Marine Laboratory; Charlotte Hudson Gray, Oceana; Gail Johnson, Fishing Vessel Seneca; David Kerstetter, Virginia Institute of Marine Science; Bill McLellan, University of North Carolina at Wilmington; Dan Mears, Fishing Vessel Monica; Tim Ragen, Marine Mammal Commission; Scott Rucky, Fishing Vessel Dakota; Rick Seagraves, Mid-Atlantic Fishery Management Council; and Sharon Young, Humane Society of the United States.

Other individuals from NMFS and state and Federal agencies may be present as observers or for their scientific expertise. Members of TRTs serve without compensation, but may be reimbursed by NMFS, upon request, for reasonable travel costs and expenses incurred in performing their duties as members of the team. The TRT process will be facilitated by Scott McCreary and Eric Poncelet, CONCUR, Inc., Berkeley, California. The TRT will hold its first meeting from June 29-30, 2005 in Bethesda, Maryland (see DATES and ADDRESSES).

NMFS fully intends to conduct the TRT process in a way that provides for national consistency yet accommodates the unique regional characteristics of the fishery and marine mammal stocks involved. Take Reduction Teams are not subject to the Federal Advisory Committee Act (5 App. U.S.C.). Meetings are open to the public.

Dated: June 16, 2005.
P. Michael Payne,
Acting Deputy Director, Office of Protected Resources, National Marine Fisheries Service.

[FR Doc. 05-12342 Filed 6-21-05; 8:45 am]

BILLING CODE 3510-22-S